DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on May 23, 2001 from 9:30 a.m. until 6 p.m., on May 24, 2001 from 9 a.m. until 6 p.m., and on May 25, 2001 from 8:30 a.m. until noon at the Ritz Carlton Hotel at Pentagon City, 1250 South Hayes Street, Arlington, Virginia 22202. You may call the hotel on (703) 415-5000 to inquire about rooms.

What Access Does the Hotel Provide for Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Bonnie LeBold, Executive Director of the National Advisory Committee on Institutional Quality and Integrity, if you have questions about the meeting. You may contact her at the U.S. Department of Education, Room 7007—MS 7592, 1990 K St., NW., Washington, DC 20006, telephone: (202) 219-7009, fax: (202) 219-7008, e-mail: Bonnie_LeBold@ed.gov. Individuals who use a telecommunications device for the deaf (TDD) may call the Federal Information Relay Service at 1-800-877-8339.

What Is the Authority for the National Advisory Committee?

The National Advisory Committee on Institutional Quality and Integrity is established under section 114 of the Higher Education Act (HEA) as amended, 20 U.S.C. 1011c.

What Are the Functions of the National Advisory Committee?

The Committee advises the Secretary of Education about:

• The establishment and enforcement of the criteria for recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include a panel discussion by higher education representatives on transfer of credit issues, the review of agencies that have submitted petitions for initial recognition or renewal of recognition, the review of agencies that have submitted interim reports, and the review of a Federal agency seeking degree-granting authority.

What Agencies Will the Advisory Committee Review at the Meeting?

The Advisory Committee will review the following agencies during its May 23-25, 2001 meeting.

Nationally Recognized Accrediting Agencies

Petition for Initial Recognition

1. Teacher Education Accreditation Council (Requested scope of recognition: The accreditation of professional education programs in institutions offering baccalaureate and graduate degrees for the preparation of teachers and other professional personnel for elementary and secondary schools)

Petitions for Renewal of Recognition

1. Accrediting Council for Independent Colleges and Schools (Requested scope of recognition: The accreditation of private postsecondary institutions offering business and business-related programs and the accreditation and preaccreditation (“Recognized Candidate”) of junior and senior colleges of business (including senior colleges with master's degree programs), as well as independent, freestanding institutions offering only graduate business and business-related programs at the master's degree level)

2. American College of Nurse-Midwives, Division of Accreditation (Current scope of recognition: The accreditation and preaccreditation (“Preaccreditation”) of basic certificate and graduate nurse-midwifery education programs for registered nurses, as well as the accreditation and preaccreditation of pre-certification nurse-midwifery education programs) (Requested scope of recognition: the current scope of recognition plus the accreditation of midwifery education programs for non-nurses at the post-baccalaureate or higher academic level that lead to certificates or graduate degrees)

3. American Council on Pharmaceutical Education (Requested scope of recognition: The accreditation and preaccreditation (“Precandidate” and “Candidate”) of professional degree programs in pharmacy leading to the degrees of Baccalaureate in Pharmacy and Doctor of Pharmacy)

4. American Dental Association, Commission on Dental Accreditation (Requested scope of recognition: The accreditation of predoctoral dental education programs (programs leading to the D.D.S. or D.M.D. degree); dental auxiliary education programs (dental assisting, dental hygiene and dental laboratory technology); and advanced dental educational programs (general practices residency, advanced general dentistry, and the specialties of dental public health, endodontics, oral pathology, orthodontics, oral and maxillofacial surgery, pedodontics, periodontics, and prosthodontics))

5. American Occupational Therapy Association, Accreditation Council for Occupational Therapy Education (Current scope of recognition: The accreditation of entry-level professional occupational therapy educational programs awarding baccalaureate degrees, post-baccalaureate certificates, professional master's degrees, and combined baccalaureate/master's degrees, and also for the accreditation of occupational therapy assistant programs leading to an associate degree or certificate) (Requested scope of recognition: The current scope of recognition plus the accreditation of entry-level doctoral degree professional occupational therapy educational programs and the accreditation of programs offered principally through distance education)

6. Council on Chiropractic Education, Commission on Accreditation (Requested scope of recognition: The accreditation of Doctor of Chiropractic programs and single-purpose institutions offering the Doctor of Chiropractic program)

7. Commission on Opticianry Accreditation (Requested scope of recognition: The accreditation of two-year programs for the ophthalmic dispenser and one-year programs for the ophthalmic laboratory technician)

8. Joint Review Committee on Education in Radiologic Technology (Requested scope of recognition: The accreditation of educational programs for radiographers and radiation therapists)

9. Joint Review Committee on Educational Programs in Nuclear Medicine Technology (Requested scope of recognition: The accreditation of higher education programs for the nuclear medicine technologist)

10. Southern Association of Colleges and Schools, Commission on Colleges (Requested scope of recognition: The accreditation and preaccreditation (“Candidate for Accreditation”) of degree-granting institutions of higher education in Alabama, Florida, Georgia, Kentucky, Louisiana, Mississippi, North Carolina, South Carolina, Tennessee, Texas, and Virginia)

11. Western Association of Schools and Colleges, Accrediting Commission for Senior Colleges and Universities (Requested scope of recognition: The accreditation and preaccreditation (“Candidate for Accreditation”) of senior colleges and universities in California, Hawaii, the United States territories of Guam and American Samoa, the Republic of Palau, the Federated States of Micronesia, the Commonwealth of the Northern Marianna Islands, and the Republic of the Marshall Islands)

Interim Reports (An interim report is a follow-up report on an accrediting agency's compliance with specific criteria for recognition that was requested by the Secretary when the Secretary granted renewed recognition to the agency.)

1. Accrediting Commission of Career Schools and Colleges of Technology

2. American Physical Therapy Association, Commission on Accreditation in Physical Therapy Education

3. American Psychological Association, Committee on Accreditation

4. Commission on Collegiate Nursing Education

5. National Accrediting Commission of Cosmetology Arts and Sciences

6. National Association of Nurse Practitioners in Women's Health, Council on Accreditation

7. Transnational Association of Christian Colleges and Schools, Accreditation Commission

State Agencies Recognized for the Approval of Public Postsecondary Vocational Education

Interim Report—

1. Kansas Board of Regents

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. U.S. Marine Corps University, Quantico, VA (request to award a master's degree in Strategic Studies)

Who Can Make Third-Party Oral Presentations at This Meeting?

We invite you to make a third-party oral presentation before the National Advisory Committee concerning the recognition of any agency published in this notice.

How Do I Request To Make an Oral Presentation?

You must submit a written request to make an oral presentation concerning an agency listed in this notice to the contact person so that the request is received no later than May 4, 2001. Your request (no more than 6 pages maximum) should include:

—The names, addresses, phone numbers, and fax numbers of all persons seeking an appearance,

—The organization they represent, and

—A brief summary of the principal points to be made during the oral presentation. If you wish, you may attach documents illustrating the main points of your oral testimony. Please keep in mind, however, that any attachments are included in the 6-page limit.

Please do not send materials directly to Committee members. Only materials submitted by the deadline to the contact person listed in this notice and in accordance with these instructions become part of the official record and are considered by the Committee in its deliberations. Documents received after the May 4, 2001 deadline will not be distributed to the Advisory Committee for their consideration. Individuals making oral presentations may not distribute written materials at the meeting.

If I Cannot Attend the Meeting, Can I Submit Written Comments Regarding an Accrediting Agency in Lieu of Making an Oral Presentation?

This notice requests third-party oral testimony, not written comment. A request for written comments on agencies that are being reviewed during this meeting was published in the Federal Register on January 18, 2001. The Advisory Committee will receive and consider only written comments submitted by the deadlines specified in that Federal Register notice.

How Do I Request To Present Comments Regarding General Issues Rather Than Specific Accrediting Agencies?

At the conclusion of the meeting, the Committee, at its discretion, may invite attendees to address the Committee briefly on issues pertaining to the functions of the Committee, which are listed earlier in this notice. If you are interested in making such comments, you should inform Ms. LeBold before or during the meeting.

How May I Obtain Access to the Records of the Meeting?

We will record the meeting and make a transcript available for public inspection at the U.S. Department of Education, Room 7007, 1990 K St. N.W., Washington, D.C. 20006 between the hours of 9:00 a.m. and 4:30 p.m., Monday through Friday, except Federal holidays. It is preferred that an appointment be made in advance of such inspection.

What Agencies Will Be Postponed for Review Until the Fall 2001 Meeting?

The agency listed below, which was originally scheduled for review during the Committee's May 2001 meeting, will be postponed for review until the Committee's Fall 2001 meeting. Any third-party written comments regarding these agencies that were received by March 5, 2001, in accordance with the Federal Register notice published on January 18, 2001, will become part of the official record and will be considered by the Committee in its deliberations at the Fall 2001 meeting. There will be another opportunity to provide written comments on these agencies this summer; a Federal Register notice requesting comments on all agencies scheduled for review at the Fall 2001 meeting will be published in June or July 2001.

Petition for Renewal of Recognition

1. Association for Clinical Pastoral Education, Inc., Accreditation Commission (Requested scope of recognition: The accreditation of clinical pastoral education (CPE) centers and CPE and supervisory CPE programs)

Authority: 5 U.S.C. Appendix 2.

Maureen A. McLaughlin,
Deputy Assistant Secretary for Policy, Planning, and Innovation, Office of Postsecondary Education.

[FR Doc. 01-7964 Filed 3-30-01; 8:45 am]

BILLING CODE 4000-01-P